GENERAL SERVICES ADMINISTRATION

[Notice-PMAB-2015-01; Docket No. 2015-0002; Sequence No. 3]

The President's Management Advisory Board (PMAB); Notification of Upcoming Public Advisory Meeting

AGENCY: Office of Executive Councils, U.S. General Services Administration (GSA).

ACTION: Meeting notice.

SUMMARY: The President's Management Advisory Board (PMAB), a Federal Advisory Committee established in accordance with the Federal Advisory Committee Act (FACA), will hold a public meeting on Friday, March 27, 2015.

DATES: Effective: March 13, 2015.

Meeting date: The meeting will be held on Friday, March 27, 2015, beginning at 9:00 a.m. Eastern Standard Time (EST), ending no later than 1:00 p.m. Eastern Standard Time (EST).

ADDRESSES: The meeting will be held at Eisenhower Executive Office Building, 1650 Pennsylvania Avenue NW., Washington, DC 20504.

FOR FURTHER INFORMATION CONTACT: Mr. Brad Golson, Designated Federal Officer, President's Management Advisory Board, Office of Executive Councils, General Services Administration, 1800 F Street NW., Washington, DC 20405, at brad.golson@gsa.gov.

SUPPLEMENTARY INFORMATION:

Background

The PMAB was established to provide independent advice and recommendations to the President and the President's Management Council on a wide range of issues related to the development of effective strategies for the implementation of best business practices to improve Federal Government management and operation.

Agenda

The main purpose of this meeting is for the PMAB to discuss employee engagement challenges in Federal agencies. Additionally, the PMAB will be briefed on the government-wide benchmarking initiative, and their counsel will be sought on effective internal customer service metrics specifically related to shared services. Lastly, the PMAB will discuss effective ways for the federal agencies to engage with the private sector in an effort to learn about best practices that can be applied to government.

Meeting Access

The PMAB will convene its meeting in the Eisenhower Executive Office Building at 1650 Pennsylvania Avenue NW., Washington, DC 20504. Due to security, there will be no public admittance to the Eisenhower Building to attend the meeting. However, the meeting is open to the public; interested members of the public may view the PMAB's discussion at http://www.whitehouse.gov/live. Members of the public wishing to comment on the discussion or topics outlined in the Agenda should follow the steps detailed in Procedures for Providing Public Comments below.

Availability of Materials for the Meeting

Please see the PMAB Web site: (http://www.whitehouse.gov/administration/advisory-boards/pmab) for any materials available in advance of the meeting and for meeting minutes that will be made available after the meeting. Detailed meeting minutes will be posted within 90 days of the meeting.

Procedures for Providing Public Comments

In general, public statements will be posted on the PMAB Web site (http://www.whitehouse.gov/administration/advisory-boards/pmab). Non-electronic documents will be made available for public inspection and copying in PMAB offices at GSA, 1800 F Street NW., Washington, DC 20405, on official business days between the hours of 10:00 a.m. Eastern Standard Time (EST) and 5:00 p.m. Eastern Standard Time (EST). You can make an appointment to inspect statements by telephoning 202-695-9554. All statements, including attachments and other supporting materials, received are part of the public record and subject to public disclosure. Any statements submitted in connection with the PMAB meeting will be made available to the public under the provisions of the Federal Advisory Committee Act.

Electronic or Paper Statements: The public is invited to submit written statements for this meeting until 12:30 p.m. Eastern Standard Time (EST) on Thursday, March 26, 2015, by either of the following methods: Submit electronic statements to Mr. Brad Golson, Designated Federal Officer at brad.golson@gsa.gov; or send paper statements in triplicate to Mr. Golson at the PMAB GSA address above.

Dated: March 9, 2015.
Giancarlo Brizzi,
Acting Associate Administrator, Office of Government-wide Policy, General Services Administration.

[FR Doc. 2015-05718 Filed 3-12-15; 8:45 am]

BILLING CODE 6820-BR-P